DEPARTMENT OF THE INTERIOR

National Park Service

General Management Plan, Environmental Impact Statement Supplement, Organ Pipe Cactus National Monument, Arizona

AGENCY: National Park Service, Department of the Interior.

ACTION: Notice of Intent to prepare a supplement to the environmental impact statement for the general management plan, Organ Pipe Cactus National Monument.

SUMMARY: Under the provisions of the National Environmental Policy Act, the National Park Service is preparing a supplement to the environmental impact statement (EIS) for the final general management plan (GMP) for Organ Pipe Cactus National Monument. The supplement will be approved by the Director, Intermountain Region.

Organ Pipe Cactus National Monument was established as a unit of the National Park System in 1937 to preserve almost 132,275 hectares of the Sonoran Desert for the public interest. It is located in southwestern Arizona and shares its southern border with Mexico. The Organ Pipe Cactus National Monument Final General Management Plan/Development Concept Plans/Environmental Impact Statement was approved in 1997. On February 12, 2001, The United States District Court for the District of Columbia (Civil Action No. 99-927) found that the EIS did not fully comply with the National Environmental Policy Act (NEPA) of 1969 because the cumulative impacts of all agency activities were not fully analyzed.

The major issue to be addressed in the EIS Supplement is the Sonoran Pronghorn. The pronghorn, one of five subspecies of pronghorn, has evolved in a unique desert environment and has distinct adaptations to this environment that distinguish it from other subspecies. In 1967, the US Fish and Wildlife Service (USFWS) designated the Sonoran Pronghorn as endangered. The most recent estimates indicate that approximately 120 to 250 pronghorn exist today. The only habitat in which Sonoran pronghorn currently remain in the United States is federally-owned land in Southwest Arizona. The court order declared that the USFWS issued Biological Opinions that failed to address the impacts of the National Park Service and other surrounding federal agencies current and planning activities on the pronghorn in an “environmental baseline”. The court order also declares that the National Park Service issued an environmental impact statement that failed to address the cumulative impacts of their activities on the pronghorn, when added to other past, present, and reasonable foreseeable future actions, regardless of what agency undertakes those actions.

Pursuant to the court order, the National Park Service, through a supplement to the GMP/EIS, will address all cumulative impacts of actions on the Sonoran Pronghorn that were not fully considered at the time of its GMP, regardless of what agency undertakes those actions. The National Park Service is not proposing to add, change, or delete any alternatives or impacts of alternatives that were presented in either the Draft General Management Plan/Development Concept Plans/Environmental Impact Statement or the Supplement to the Draft General Management Plan/Development Concept Plans/Environmental Impact Statement. Alternatives addressed will be (1) Existing Conditions/No Action and Alternative (2) New Proposed Action Alternative. The National Park Service will begin the process to the supplement to the GMP/EIS in mid-March, 2001.

Comments

With this Notice of Intent, scoping comments will be accepted for 30 days from the date of this notice. If you wish to comment on this notice, you may submit your comments by any one of several methods. You may mail comments to Laurie Domler, Intermountain Region, Denver Support Office, 12795 Alameda Parkway, P.O. Box 25287, Denver, CO 80225-0287. You may also submit comments via electronic mail to Laurie_Domler@nps.gov. Please include your name and return address in any message. Our practice is to make comments, including the names and addresses of respondents, available for public review during regular business hours. Individual respondents may request that we withhold their home address from the record, which we honor to the extent allowable by law. If you wish us to withhold your name and/or address, you must state this prominently at the beginning of your comment. However, we will not consider anonymous comments. We will make all submissions from organizations or businesses, and from individuals identifying themselves as representatives or officials of organizations or businesses, available for public inspection in their entirety.

FOR FURTHER INFORMATION CONTACT: Superintendent, Bill Wellman, Organ Pipe Cactus National Monument, Route 1, Box 100, Ajo, AZ 85321; Tel: (520); FAX: (520) e-mail: Bill_Wellman@nps.gov.

Dated: April 2, 2001.
Jack Neckels,
Director, Intermountain Region.

[FR Doc. 01-10405 Filed 4-25-01; 8:45 am]

BILLING CODE 4310-70-P